FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201284.

Agreement Name: Hyundai Glovis/Sallaum Mediterranean Space Charter Agreement.

Parties: Hyundai Glovis Co., Ltd. and Sallaum Lines DMCC.

Filing Party: Wayne Rohde; Cozen O'Connor.

Synopsis: The Agreement authorizes the parties to charter space to/from one another in the trade between all ports in the U.S. on the one hand and ports in Libya and Lebanon on the other hand.

Proposed Effective Date: 11/20/2018.

Location: https://www2.fmc.gov/FMC.Agreements.Web/Public/AgreementHistory/20309.

Agreement No.: 201143-018.

Agreement Name: West Coast MTO Agreement.

Parties: APM Terminals Pacific LLC; Fenix Marine Services, Ltd.; Everport Terminal Services, Inc.; International Transportation Service, Inc.; LBCT LLC dba Long Beach Container Terminal LLC; Total Terminals International LLC; West Basin Container Terminal LLC; Pacific Maritime Services L.L.C.; SSAT (Pier A), LLC; Trapac LLC; Yusen Terminals LLC; and SSA Terminals, LLC.

Filing Party: Wayne Rohde; Cozen O'Connor.

Synopsis: The amendment reflects the decision of Eagle Marine Services, Ltd. to change its name to Fenix Marine Services, Ltd. The amendment also corrects the names and/or addresses of Fenix and other parties to the Agreement.

Proposed Effective Date: 11/21/2018.

Location: https://www2.fmc.gov/FMC.Agreements.Web/Public/AgreementHistory/2090.

Agreement No.: 201285.

Agreement Name: Siem Car Carriers AS/Accordia Shipping LLC Space Charter Agreement.

Parties: Siem Car Carriers AS and Accordia Shipping LLC.

Filing Party: Elizabeth Lowe; Venable LLP.

Synopsis: The Agreement authorizes the parties to charter space to each other in the trade between the United States and Mexico.

Proposed Effective Date: 11/21/2018.

Location: https://www2.fmc.gov/FMC.Agreements.Web/Public/AgreementHistory/20311.

Agreement No.: 201157-008.

Agreement Name: USMX-ILA Master Contract.

Parties: International Longshoremen's Association, AFL-CIO and United States Maritime Alliance, Ltd.

Filing Party: William Spelman, The Lambos Firm; and Andre Mazzola, Marrinan & Mazzola Mardon, P.C.

Synopsis: The amendment increases the overall assessment from $5.10 per ton to $5.45.

Proposed Effective Date: 11/21/2018.

Location: https://www2.fmc.gov/FMC.Agreements.Web/Public/AgreementHistory/8153.

Agreement No.: 011814-007.

Agreement Name: Maersk/King Ocean Space Charter Agreement.

Parties: Maersk Line A/S and King Ocean Services Limited, Inc.

Filing Party: Wayne Rohde; Cozen O'Connor.

Synopsis: The amendment deletes Hamburg Sud as a party and replaces it with Maersk Line, changes the name of the Agreement and restates the Agreement.

Proposed Effective Date: 1/10/2019.

Location: https://www2.fmc.gov/FMC.Agreements.Web/Public/AgreementHistory/544.

Dated: November 26, 2018.
JoAnne D. O'Bryant,
Program Analyst.

[FR Doc. 2018-25975 Filed 11-28-18; 8:45 am]

BILLING CODE 6731-AA-P